DEPARTMENT OF TRANSPORTATION

National Highway Traffic Safety Administration

[U.S. DOT Docket No. NHTSA-2013-0051]

Reports, Forms, and Recordkeeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995 (44 U.S.C. 3501 et seq.), before seeking OMB approval, Federal agencies must solicit public comment on proposed collections of information, including extensions and reinstatements of previously approved collections.

This document describes an Information Collection Request (ICR) for which NHTSA intends to seek OMB approval.

DATES: Comments must be submitted on or before July 8, 2013.

ADDRESSES: You may submit comments identified by DOT Docket ID Number NHTSA-2013-0051 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Randolph Atkins, Ph.D., Contracting Officer's Technical Representative, Office of Behavioral Safety Research (NTI-131), National Highway Traffic Safety Administration, 1200 New Jersey Ave. SE., W46-500, Washington, DC 20590. Dr. Atkins' phone number is 202-366-5597 and his email address is randolph.atkins@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks for public comment on the following proposed collection of information:

Title: Matching Countermeasures to Driver Types and Speeding Behaviors.

Type of Request: New information collection request.

OMB Clearance Number: None.

Form Number: NHTSA 1198.

Requested Expiration Date of Approval: 3 years from date of approval.

Summary of the Collection of Information: The National Highway Traffic Safety Administration (NHTSA) proposes to collect information from a stratified random sample of 3200 licensed drivers in the State of Idaho to collect information on speeding and traffic safety. The sample will be stratified by age, gender, and number of speeding citations in the previous three years (no citations, one citation, two or more citations). The survey will ask about attitudes and behaviors related to speeding and driving speeds on various types of roads, speeding countermeasures, the influence of passengers and driving environment on speed choices, and personal driving experiences. The average amount of time to complete the survey is estimated to be about 21 minutes.

The survey will be conducted as an address-based mail survey with the mailings sent out by the Idaho Transportation Department. It will include a pre-survey letter and a series of mailed reminders. Completed questionnaires will be returned in postage-paid pre-addressed envelopes to NHTSA's contractor for this project, Battelle. The survey will be administered only once per respondent. It will be made available on-line for any respondents that prefer to do the survey on-line. The on-line option is included to ensure adequate participation by younger drivers. No personally identifiable information will be collected; all results will be reported in the aggregate.

Description of the Need for the Information and Proposed Use of the Information—The National Highway Traffic Safety Administration (NHTSA) was established by the Highway Safety Act of l970 (23 U.S. C. 101) to carry out a Congressional mandate to reduce the number of deaths, injuries, and economic losses resulting from motor vehicle crashes on the Nation's highways. Speeding is one of the primary factors involved in vehicle crashes. In 2011, speeding was a contributing factor in 30% of all fatal crashes and the loss of 9,994 lives. The estimated economic cost to society for speeding-related crashes is $40.4 billion per year. Given the widespread occurrence of speeding and the high toll in injuries and lives lost in speed-related crashes, as well as the high economic costs of speed-related crashes, this is a safety issue that demands attention.

Given there has been so little progress in reducing the percentage of speeding-related fatalities over the last decade, it is appropriate to examine new approaches for addressing this problem. Recent research findings reveal important differences in driver types and speeding behaviors and provide an opportunity to develop new countermeasures and more targeted approaches to reduce speeding-related fatalities and injuries. The data collected in this study will provide NHTSA with important detailed information that will help to better define the nature of the speeding problem and assist in reducing speeding on our nation's highways. In support of its mission, NHTSA will use the findings from this survey for developing new speeding countermeasures that are better matched to specific types of speeding problems. This new information on driver types and countermeasures for speeding can help communities throughout the country to enhance and improve their speed management programs. This information is focused on achieving the greatest benefit in decreasing crashes and resulting injuries and fatalities, and providing informational support to States, localities, and law enforcement agencies that will aid them in their efforts to reduce traffic crashes.

Description of the Likely Respondents (Including Estimated Number, and Proposed Frequency of Response to the Collection of Information)—After a thorough search for a State to participate in this project, an agreement with the State of Idaho was established to conduct this study. The survey respondents will be a random sample of drivers currently licensed and living in Idaho. The sample will be stratified by age, gender, and numbers of citations for speeding in the previous three years. The questionnaire will be mailed to respondents and also made available on-line. A final sample size of 3,200 drivers is projected for the survey mailing with a projected response rate of 50% (1,600 drivers). All respondents will surveyed only once and participation in the survey is voluntary.

Estimate of the Total Annual Reporting and Recordkeeping Burden Resulting From the Collection of Information—The total estimated annual burden is approximately 560 hours for the survey. Based on cognitive testing of the paper and pencil survey (n = 9), it is estimated it will take approximately 21 minutes per respondent to complete the survey (1,600 respondents × 21 minutes each = 560 hours total). The survey would be fielded for a two-month period in 2014. The mailed survey packets would include a postage-paid return envelope for returning the completed questionnaires. Respondents will also have the option of completing the survey on-line. The mean hourly wage for all occupations in the State of Idaho is $18.52. At 560 total responding hours for the survey, this would put the cost burden at approximately $10,371.20. The respondents would receive a $5.00 incentive for taking the survey. The respondents would not incur any reporting cost from the information collection beyond the time to respond to the information request and they would not incur any record keeping burden or record keeping cost from the information collection.

Authority: 44 U.S.C. 3506(c)(2)(A).

Issued on: May 3, 2013.
Jeff Michael,
Associate Administrator, Research and Program Development.

[FR Doc. 2013-10930 Filed 5-7-13; 8:45 am]

BILLING CODE 4910-59-P